DEPARTMENT OF TRANSPORTATION

Office of the Secretary

Aviation Proceedings, Agreements Filed the Week Ending June 6, 2003

The following Agreements were filed with the Department of Transportation under the provisions of 49 U.S.C. sections 412 and 414. Answers may be filed within 21 days after the filing of the application.

Docket Number: OST-2003-15359.

Date Filed: June 4, 2003.

Parties: Members of the International Air Transport Association.

Subject: Mail Vote 302, PTC2 ME-AFR 0110 dated 4 June 2003, TC2 Middle East-Africa, Special Passenger Amending Resolution 010p from Qatar, Intended effective date: 15 June 2003.

Docket Number: OST-2003-15383.

Date Filed: June 6, 2003.

Parties: Members of the International Air Transport Association.

Subject: Mail Vote 301, PTC3 0650 dated 6 June 2003, Resolution 078ee—PEX Fares from Korea (Rep. of) to South East Asia, Intended effective date: 1 September 2003.

FOR FURTHER INFORMATION CONTACT: Andrea M. Jenkins, Telephone: (202) 366-0271.

Andrea M. Jenkins,
Federal Register Liaison.

[FR Doc. 03-15082 Filed 6-13-03; 8:45 am]

BILLING CODE 4910-62-P